DEPARTMENT OF COMMERCE

National Institute of Standards and Technology

[Document Number: 090306279-0146-02]

Final Voluntary Product Standard; DOC PS 20-10 “American Softwood Lumber Standard”

AGENCY: National Institute of Standards and Technology, Commerce.

ACTION: Notice.

SUMMARY: The National Institute of Standards and Technology (NIST) announces voluntary product standard DOC PS 20-10 “American Softwood Lumber Standard” which will supersede DOC PS 20-05. The Standard establishes standard sizes and requirements for developing and coordinating the lumber grades of the various species of softwood lumber, the assignment of design values, and the preparation of grading rules applicable to each species. Its provisions include implementation of the Standard through an accreditation and certification program; establishment of principal trade classifications and lumber sizes for yard, structural, factory/shop use: Classification, measurement, grading and grade-marking of lumber; Definitions of terms and procedures to provide a basis for the use of uniform methods in the grading, inspection, measurement and description of softwood lumber; commercial names of the principal softwood species: Definitions of terms used in describing standard grades in lumber; and commonly used industry abbreviations. The Standard also includes the organization and functions of the American Lumber Standard Committee, the Board of Review, and the National Grading Rule Committee.

DATES: DOC PS 20-10 “American Softwood Lumber Standard,” a voluntary product standard developed under Department of Commerce procedures, becomes effective June 1, 2010, for products produced thereunder on and after that date. The standard being superseded, DOC PS 20-05 “American Softwood Lumber Standard,” is effective for products produced thereunder through May 31, 2010.

ADDRESSES: Requests for a copy of DOC PS 20-10 should be submitted to: Standards Services Program, NIST, 100 Bureau Drive Stop 2100, Gaithersburg, MD 20899-2150. The standard is also available at http://ts.nist.gov/Standards/Conformity/vps.cfm.

FOR FURTHER INFORMATION CONTACT: David F. Alderman, Standards Services Division, telephone: 301-975-4019, fax: 301-975-4715, or e-mail david.alderman@nist.gov.

SUPPLEMENTARY INFORMATION: DOC PS 20-10 “American Softwood Lumber Standard” was developed by the American Lumber Standard Committee, the Standing Committee responsible for maintaining the standard. The revision was processed in accordance with provisions of Department of Commerce “Procedures for the Development of Voluntary Product Standards” (15 CFR part 10). A notice, which appeared in the Federal Register on April 3, 2009 (74 FR 15255) announced NIST's circulation of the revision for public review, requested public comments, and provided the history of the revision.

Analysis of Comments

NIST received one comment from an association representing lumber retailers.

Comment: The commenter requested that the standard be expanded to include a “single regime” for verifying the eco-attribute of lumber products with an on-product eco-label.

Response: NIST did not make the requested change because the scope of DOC PS 20 deals with the grade marking of various softwood lumber and the addition of eco-labeling is therefore considered outside the scope of this standard.

DOC PS 20-10 supersedes DOC PS 20-05, effective June 1, 2010. The new edition reflects efforts toward updating and improving DOC PS 20 with clarification and amplification of text and terms while maintaining the technical requirements and administrative structure for implementing and enforcing the Standard.

Dated: March 30, 2010.
Marc G. Stanley,
Acting Deputy Director.

[FR Doc. 2010-7494 Filed 4-1-10; 8:45 am]

BILLING CODE 3510-13-P